DEPARTMENT OF THE INTERIOR

Fish and Wildlife Service

2000 Migratory Bird Hunting and Conservation Stamp (Federal Duck Stamp) Contest

AGENCY: Fish and Wildlife Service, Interior.

ACTION: Notice.

SUMMARY: The Fish and Wildlife Service announces the dates and locations of the 2000 Federal Duck Stamp contest; the public is invited to attend.

DATES: 1. The 2000 contest opens for submission on July 1, 2000.

2. Persons wishing to enter this years contest may submit entries anytime after Saturday, July 1, 2000, but all must be postmarked no later than midnight, Friday, September 15, 2000.

ADDRESSES: Requests for complete copies of the regulations, reproduction rights agreement and display and participation agreement may be requested by calling 1-877-887-5508 or requests may be addressed to: Federal Duck Stamp Contest, U.S. Fish and Wildlife Service, Department of the Interior, 1849 C Street, NW, Suite 2058, Washington, DC 20240. You may also download the information from the Federal Duck Stamp Home Page at www.duckstamps.fws.gov.

FOR FURTHER INFORMATION CONTACT: Ms. Terry Bell, telephone (202) 208-4354, or fax: (202) 208-6296.

SUPPLEMENTARY INFORMATION: Location of contest: Department of the Interior building, Auditorium (“C” Street entrance), 1849 C Street, NW, Washington, DC. The public may view the 2000 Federal Duck Stamp Contest entries on Monday, November 6, 2000, from 10:00 a.m. to 2:00 p.m. in the Department of the Interior Auditorium. This year's judging will be held on November 7-8, 2000, beginning at 10:30 a.m. on Tuesday, November 7 and continuing at 9:00 a.m. on Wednesday, November 8. The five eligible specicies for the 2000 duck stamp contest are as follows:

(1) American Green-winged Teal

(2) Black Duck

(3) Northern Pintail

(4) Ruddy Duck

(5) American Widgeon

The primary author of this document is Ms. Terry Bell, U.S. Fish and Wildlife Service.

Dated: February 8, 2000.
Jamie Rappaport Clark,
Director.

[FR Doc. 00-3658 Filed 2-15-00; 8:45 am]

BILLING CODE 4310-55-M